ENVIRONMENTAL PROTECTION AGENCY

[EPA-HQ-OECA-2011-0256; FRL-9935-36-OEI]

Information Collection Request Submitted to OMB for Review and Approval; Comment Request; Emission Guidelines for Existing Other Solid Waste Incineration Units (Renewal)

AGENCY: Environmental Protection Agency (EPA).

ACTION: Notice.

SUMMARY: The Environmental Protection Agency has submitted an information collection request (ICR), “Emission Guidelines for Existing Other Solid Waste Incineration Units (40 CFR part 60, subpart FFFF) (Renewal)” (EPA ICR No. 2164.05, OMB Control No. 2060-0562), to the Office of Management and Budget (OMB) for review and approval in accordance with the Paperwork Reduction Act (44 U.S.C. 3501 et seq.). This is a proposed extension of the ICR, which is currently approved through October 31, 2015. Public comments were previously requested via the Federal Register (80 FR 32116) on June 5, 2015 during a 60-day comment period. This notice allows for an additional 30 days for public comments. A fuller description of the ICR is given below, including its estimated burden and cost to the public. An Agency may neither conduct nor sponsor, and a person is not required to respond to, a collection of information unless it displays a currently valid OMB control number.

DATES: Additional comments may be submitted on or before November 27, 2015.

ADDRESSES: Submit your comments, referencing Docket ID Number EPA-HQ-OECA-2011-0256, to: (1) EPA online using www.regulations.gov (our preferred method), by email to docket.oeca@epa.gov, or by mail to: EPA Docket Center, Environmental Protection Agency, Mail Code 28221T, 1200 Pennsylvania Ave. NW., Washington, DC 20460; and (2) OMB via email to oira_submission@omb.eop.gov. Address comments to OMB Desk Officer for EPA.

EPA's policy is that all comments received will be included in the public docket without change including any personal information provided, unless the comment includes profanity, threats, information claimed to be Confidential Business Information (CBI), or other information whose disclosure is restricted by statute.

FOR FURTHER INFORMATION CONTACT: Patrick Yellin, Monitoring, Assistance, and Media Programs Division, Office of Compliance, Mail Code 2227A, Environmental Protection Agency, 1200 Pennsylvania Ave. NW., Washington, DC 20460; telephone number: (202) 564-2970; fax number: (202) 564-0050; email address: yellin.patrick@epa.gov.

SUPPLEMENTARY INFORMATION: Supporting documents which explain in detail the information that the EPA will be collecting are available in the public docket for this ICR. The docket can be viewed online at www.regulations.gov or in person at the EPA Docket Center, EPA West, Room 3334, 1301 Constitution Ave. NW., Washington, DC. The telephone number for the Docket Center is 202-566-1744. For additional information about EPA's public docket, visit: http://www.epa.gov/dockets.

Abstract: Respondents are existing facilities and new OSWI units, which include two sub-categories: 1) very small municipal waste combustion (VSMWC) units that combust less than 35 tons per day of waste; and 2) institutional waste incineration (IWI) units. These standards apply to any air quality program in a state or United States protectorate with one or more existing other solid waste incineration (OSWI) units or air curtain incinerators that commenced construction on or before December 9, 2004. This subpart does not directly affect incineration unit owners and operators; however, they must comply with the state's plan that was developed by the air quality program administrator to implement the emission guidelines.

Form Numbers: None.

Respondents/affected entities: OSWI units, which include two subcategories: VSMWC units that combust less than 35 tons per day of waste and IWI units.

Respondent's obligation to respond: Mandatory (40 CFR part 60, subpart FFFF).

Estimated number of respondents: 99 (total).

Frequency of response: Initially, occasionally, semiannually, and annually.

Total estimated burden: 70,200 hours (per year). Burden is defined at 5 CFR 1320.3(b).

Total estimated cost: $7,560,000 (per year), including $495,000 in either annualized capital/startup and/or operation & maintenance costs.

Changes in the Estimates: There is an adjustment increase in the total estimated labor burden as currently identified in the OMB Inventory of Approved Burdens. This not due to any program changes. The increase occurred because we assume existing respondents will take some time to re-familiarize themselves with the rule each year. In addition, the cost estimate has been updated using more current labor rates.

Courtney Kerwin,
Acting-Director, Collection Strategies Division.

[FR Doc. 2015-27314 Filed 10-26-15; 8:45 am]

BILLING CODE 6560-50-P